DEPARTMENT OF HOMELAND SECURITY

Federal Emergency Management Agency

[Docket ID FEMA-2015-0001; Internal Agency Docket No. FEMA-B-1509]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Date: April 22, 2015.
Roy E. Wright,
Deputy Associate Administrator for Mitigation, Department of Homeland Security, Federal Emergency Management Agency.

State and county | Location and case No. | Chief executive officer of community | Community map repository | Online location of letter of map revision | Effective date of modification | Community No.
Arkansas: Benton | City of Rogers (14-06-2125P) | The Honorable Greg Hines, Mayor, City of Rogers, 301 West Chestnut Street, Rogers, AR 72756 | City Hall, 301 West Chestnut Street, Rogers, AR 72756 | http://www.msc.fema.gov/lomc | Jul. 6, 2015 | 050013
Delaware: Dover | City of Dover (15-03-0103P) | The Honorable Robin R. Christiansen, Mayor, City of Dover, 15 Loockerman Plaza, Dover, DE 19901 | Department of Planning and Inspection, 15 Loockerman Plaza, Dover, DE 19901 | http://www.msc.fema.gov/lomc | Jun. 26, 2015 | 100006
Louisiana: Rapides | City of Alexandria (14-06-4775P) | The Honorable Jacques M. Roy, Mayor, City of Alexandria, P.O. Box 71, Alexandria, LA 71309 | City Hall, 915 3rd Street, 1st Floor, Alexandria, LA 71301 | http://www.msc.fema.gov/lomc | May 21, 2015 | 220146
New Jersey: Burlington | Township of Medford (14-02-2411P) | Ms. Katherine Burger, Interim Manager, Township of Medford, 17 North Main Street, Medford, NJ 08055 | Municipal Center, 17 North Main Street, Medford, NJ 08055 | http://www.msc.fema.gov/lomc | Jun. 19, 2015 | 340104
New Mexico:
Bernalillo | Unincorporated areas of Bernalillo County (14-06-0924P) | The Honorable Maggie Hart Stebbins, Chairman, Bernalillo County Board of Commissioners, 1 Civic Plaza Northwest, Albuquerque, NM 87102 | Bernalillo County Public Works Division, 2400 Broadway Boulevard Southeast, Albuquerque, NM 87102 | http://www.msc.fema.gov/lomc | May 12, 2015 | 350001
Bernalillo | Unincorporated areas of Bernalillo County (14-06-0925P) | The Honorable Maggie Hart Stebbins, Chairman, Bernalillo County Board of Commissioners, 1 Civic Plaza Northwest, Albuquerque, NM 87102 | Bernalillo Public Works Division, 2400 Broadway Boulevard Southeast, Albuquerque, NM 87102 | http://www.msc.fema.gov/lomc | Jun. 19, 2015 | 350001
Santa Fe | City of Santa Fe (15-06-0598P) | The Honorable Javier M. Gonzales, Mayor, City of Santa Fe, 200 Lincoln Avenue, Santa Fe, NM 87501 | 200 Lincoln Avenue, Santa Fe, NM 87501 | http://www.msc.fema.gov/lomc | Jun. 25, 2015 | 350070
Santa Fe | Unincorporated areas of Santa Fe County (15-06-0598P) | The Honorable Shannon Broderick Bulman, Santa Fe County Probate Judge, 102 Grant Avenue, Santa Fe, NM 87501 | Santa Fe County, 102 Grant Avenue, Santa Fe, NM 87501 | http://www.msc.fema.gov/lomc | Jun. 25, 2015 | 350069
Ohio:
Franklin | City of Columbus (14-05-8003P) | The Honorable Michael B. Coleman, Mayor, City of Columbus, 90 West Broad Street, 2nd Floor, Columbus, OH 43215 | Department of Public Utilities, Stormwater and Regulatory Management Section, 1250 Fairwood Avenue, Columbus, OH 43206 | http://www.msc.fema.gov/lomc | Apr. 22, 2015 | 390170
Franklin | City of Hilliard (14-05-8003P) | The Honorable Don Schonhardt, Mayor, City of Hilliard, 5171 Northwest Parkway, Hilliard, OH 43026 | City Hall, 3800 Municipal Way, Hilliard, OH 43026 | http://www.msc.fema.gov/lomc | Apr. 22, 2015 | 390175
Franklin | Unincorporated areas of Franklin County (14-05-8003P) | The Honorable Marilyn Brown, President, Franklin County Board of Commissioners, 373 South High Street, 26th Floor, Columbus, OH 43215 | Franklin County Economic Development and Planning Department, 150 South Front Street, Front Street Level, Suite 10, Columbus, OH 43215 | http://www.msc.fema.gov/lomc | Apr. 22, 2015 | 390167
Oklahoma: Tulsa | City of Broken Arrow (14-06-3286P) | The Honorable Craig Thurmond, Mayor, City of Broken Arrow, 220 South 1st Street, Broken Arrow, OK 74012 | City Hall, 220 South 1st Street, Broken Arrow, OK 74012 | http://www.msc.fema.gov/lomc | Jun. 22, 2015 | 400236
Pennsylvania:
Berks | City of Reading (13-03-2114P) | The Honorable Vaughn D. Spencer, Mayor, City of Reading, 815 Washington Street, Reading, PA 19601 | Office of Zoning, Planning and Preservation, Community Development Department, 815 Washington Street, Reading, PA 19601 | http://www.msc.fema.gov/lomc | Jun. 26, 2015 | 420145
Berks | Town of Cumru (13-03-2114P) | Ms. Jeanne E. Johnston, Manager, Township of Cumru, 1775 Welsh Road, Mohnton, PA 19540 | Cumru Township Office Building, 1775 Welsh Road, Mohnton, PA 19540 | http://www.msc.fema.gov/lomc | Jun. 26, 2015 | 420130
Texas:
Bell | City of Temple (13-06-3510P) | The Honorable Danny Dunn, Mayor, City of Temple, 2 North Main Street, Suite 103, Temple, TX 76501 | 3210 East Avenue H, Building A, Suite 107, Temple, TX 76501 | http://www.msc.fema.gov/lomc | Jul. 13, 2015 | 480034
Bexar | City of San Antonio (14-06-0780P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | May 6, 2015 | 480045
Bexar | City of San Antonio (14-06-3298P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Jun. 19, 2015 | 480045
Bexar | City of San Antonio (15-06-0882X) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | May 6, 2015 | 480045
Bexar | Unincorporated areas of Bexar County (14-06-4527P) | The Honorable Nelson W. Wolff, Bexar County Judge, Paul Elizondo Tower, 101 West Nueva Street, 10th Floor, San Antonio, TX 78205 | Bexar County Public Works Department, 233 North Pecos-La Trinidad Street, San Antonio, TX 78207 | http://www.msc.fema.gov/lomc | Jun. 19, 2015 | 480035
Bexar | Unincorporated areas of Bexar County (15-06-1160X) | The Honorable Nelson W. Wolff, Bexar County Judge, Paul Elizondo Tower, 101 West Nueva Street, 10th Floor, San Antonio, TX 78205 | Bexar County Public Works Department, 233 North Pecos-La Trinidad Street, San Antonio, TX 78207 | http://www.msc.fema.gov/lomc | Jun. 19, 2015 | 480035
Caldwell | City of Martindale (13-06-3462P) | The Honorable Doyle Mosier, Mayor, City of Martindale, P.O. Box 365, Martindale, TX 78655 | 409 Main Street, Martindale, TX 78655 | http://www.msc.fema.gov/lomc | May 15, 2015 | 481587
Caldwell | Unincorporated areas of Caldwell County (13-06-3462P) | The Honorable Ken Schawe, Caldwell County Judge, 110 South Main Street, Room 201, Lockhart, TX 78644 | Caldwell County, 110 South Main Street, Lockhart, TX 78644 | http://www.msc.fema.gov/lomc | May 15, 2015 | 480094
Collin | Unincorporated areas of Collin County (14-06-2017P) | The Honorable Keith Self, Collin County Judge, 2300 Bloomdale Road, Suite 4192, McKinney, TX 75071 | Collin County Engineering Department, 4690 Community Avenue, Suite 200, McKinney, TX 75071 | http://www.msc.fema.gov/lomc | Jun. 4, 2015 | 480130
Dallas | City of Lancaster (14-06-3046P) | The Honorable Marcus E. Knight, Mayor, City of Lancaster, P.O. Box 940, Lancaster, TX 75146 | 211 North Henry Street, Lancaster, TX 75146 | http://www.msc.fema.gov/lomc | Jun. 1, 2015 | 480182
Denton | City of Frisco (14-06-3421P) | The Honorable Maher Maso, Mayor, City of Frisco, 6101 Frisco Square Boulevard, Frisco, TX 75034 | George A. Purefoy Municipal Center, 6101 Frisco Square Boulevard, 3rd Floor, Frisco, TX 75034 | http://www.msc.fema.gov/lomc | May 4, 2015 | 480134
Denton | Town of Flower Mound (14-06-4522P) | The Honorable Thomas Hayden, Mayor, Town of Flower Mound, 2121 Cross Timbers Road, Flower Mound, TX 75028 | Engineering Department, 1001 Cross Timbers Road, Suite 3220, Flower Mound, TX 75028 | http://www.msc.fema.gov/lomc | Jun. 19, 2015 | 480777
Denton | Town of Little Elm (14-06-3421P) | The Honorable David Hillock, Mayor, Town of Little Elm, 100 West Eldorado Parkway, Little Elm, TX 75068 | Town Hall, GIS Development Services, 100 West Eldorado Parkway, Little Elm, TX 75068 | http://www.msc.fema.gov/lomc | May 4, 2015 | 481152
Denton | Unincorporated areas of Denton County (14-06-2414P) | The Honorable Mary Horn, Denton County Judge, 110 West Hickory Street, 2nd Floor, Denton, TX 76201 | Denton County Government Center, 1505 East McKinney Street, Suite 175, Denton, TX 76209 | http://www.msc.fema.gov/lomc | Jun. 24, 2015 | 480774
Fort Bend | City of Richmond (15-06-0769P) | The Honorable Evalyn W. Moore, Mayor, City of Richmond, 402 Morton Street, Richmond, TX 77469 | City Hall, 402 Morton Street, Richmond, TX 77469 | http://www.msc.fema.gov/lomc | Jul. 9, 2015 | 480231
Fort Bend | Pecan Grove Municipal Utility District (15-06-0769P) | Mr. Chad Howard, President, Pecan Grove Municipal Utility District, Allen Boone Humphries Robinson LLP,, 3200 Southwest Freeway, Suite 2600, Houston, TX 77027 | Pecan Grove Municipal Utility District, Jones and Carter Engineering, 6335 Gulfton Drive, Suite 200, Houston, TX 77081 | http://www.msc.fema.gov/lomc | Jul. 9, 2015 | 481486
Fort Bend | Unincorporated areas of Fort Bend County (15-06-0769P) | The Honorable Robert Hebert, Fort Bend County Judge, 401 Jackson Street, Richmond, TX 77469 | Fort Bend County Engineering Office, 301 Jackson Street, Richmond, TX 77469 | http://www.msc.fema.gov/lomc | Jul. 9, 2015 | 480228
Guadalupe | Unincorporated areas of Guadalupe County (13-06-3462P) | The Honorable Kyle Kutscher, Guadalupe County Judge, 211 West Court Street, Seguin, TX 78155 | Guadalupe County, 2605 North Guadalupe Street, Seguin, TX 78155 | http://www.msc.fema.gov/lomc | May 15, 2015 | 480266
Harris | Unincorporated areas of Harris County (15-06-0108P) | The Honorable Ed M. Emmett, Harris County Judge, 1001 Preston Street, Suite 911, Houston, TX 77002 | Harris County Permit Office, 10555 Northwest Freeway, Suite 120, Houston, TX 77092 | http://www.msc.fema.gov/lomc | May 18, 2015 | 480287
Hunt | City of Greenville (14-06-1302P) | The Honorable Steve Reid, Mayor, City of Greenville, P. O. Box 1049, Greenville, TX 75403 | Public Works Department, 2315 Johnson Street, Greenville, TX 75401 | http://www.msc.fema.gov/lomc | Jul. 8, 2015 | 485473
Tarrant | City of Fort Worth (14-06-4247P) | The Honorable Betsy Price, Mayor, City of Fort Worth, 1000 Throckmorton Street, Fort Worth, TX 76102 | Department of Transportation and Public Works, 1000 Throckmorton Street, Fort Worth, TX 76102 | http://www.msc.fema.gov/lomc | May 22, 2015 | 480596
Tarrant | City of Keller (14-06-4310P) | The Honorable Mark Mathews, Mayor, City of Keller, P.O. Box 770, Keller, TX 76244 | Public Works Department, 1100 Bear Creek Parkway, Keller, TX 76248 | http://www.msc.fema.gov/lomc | Jul. 6, 2015 | 480602
Virginia:
Albemarle | Unincorporated areas of Albemarle County (14-03-0864P) | Mr. Thomas C. Foley, Alebemarle County Executive, 401 McIntire Road, Charlottesville, VA 22902 | Albemarle County Department of Community Development, 401 McIntire Road, Charlottesville, VA 22902 | http://www.msc.fema.gov/lomc | Jun. 3, 2015 | 510006
Fairfax | Unincorporated areas of Fairfax County (15-03-0079P) | Mr. Edward L. Long, Jr., Fairfax County Executive, 12000 Government Center Parkway, Fairfax, VA 22035 | Fairfax County Stormwater Planning Division, 12000 Government Center Parkway, Suite 449, Fairfax, VA 22035 | http://www.msc.fema.gov/lomc | Jun. 5, 2015 | 515525
Frederick | City of Winchester (14-03-2926P) | Ms. Eden Freeman, Manager, City of Winchester, 15 North Cameron Street, Winchester, VA 22601 | Department of Public Services, Engineering Division, 15 North Cameron Street, Winchester, VA 22601 | http://www.msc.fema.gov/lomc | May 21, 2015 | 510173
Loudoun | Town of Leesburg (14-03-1706P) | The Honorable Kristen C. Umstattd, Mayor, Town of Leesburg, 25 West Market Street, Leesburg, VA 20176 | Town Hall, 25 West Market Street, Leesburg, VA 20176 | http://www.msc.fema.gov/lomc | May 14, 2015 | 510091
Loudoun | Unincorporated areas of Loudoun County (14-03-1706P) | The Honorable Scott K. York, Chairman-at-Large, Loudoun County Board of Supervisors, P.O. Box 7000, Leesburg, VA 20177 | Loudoun County Building and Development Department, 1 Harrison Street Southeast, Leesburg, VA 20175 | http://www.msc.fema.gov/lomc | May 14, 2015 | 510090

[FR Doc. 2015-10534 Filed 5-5-15; 8:45 am]

BILLING CODE 9110-12-P